DEPARTMENT OF DEFENSE

Office of the Secretary

32 CFR Part 321

[Docket ID: DOD-2018-OS-0008]

RIN 0790-AK67

Defense Security Service Privacy Program

AGENCY: Defense Counterintelligence and Security Agency, DoD.

ACTION: Final rule.

SUMMARY: This final rule removes DoD's regulation concerning the Defense Security Service (DSS) Privacy Program. The DSS organization's name has been changed since codification to the Defense Counterintelligence and Security Agency (DCSA). Moving forward, this agency will be referenced as DCSA. On April 11, 2019, the Department of Defense published a revised DoD-level Privacy program, which contains the necessary information for an agency-wide Privacy Program regulation under the Privacy Act and now serves as the single Privacy Program rule for the Department. That revised Privacy Program rule also includes all DoD component exemption rules. Therefore, this part is now unnecessary and may be removed from the CFR.

DATES: This rule is effective on June 24, 2020.

FOR FURTHER INFORMATION CONTACT: Ms. Stephanie J. Courtney, 571-305-6740.

SUPPLEMENTARY INFORMATION: DoD now has a single DoD-level Privacy Program rule at 32 CFR 310 (84 FR 14728) that contains all the codified information required for the Department. The Defense Counterintelligence and Security Privacy Act Program regulation at 32 CFR 321, last updated on September 14, 1999 (64 FR 49660), is no longer required and may be removed.

It has been determined that publication of this CFR part removal for public comment is impracticable, unnecessary, and contrary to public interest since it is based on removing DoD policies and procedures that are either now reflected in another CFR part, 32 CFR 310, or are publically available on the Department's website. To the extent that DCSA internal guidance concerning the implementation of the Privacy Act within DCSA is necessary, it will be issued in an internal document.

This rule is one of 20 separate DoD component Privacy rules. With the finalization of the DoD-level Privacy rule at 32 CFR part 310, the Department eliminated the need for this component Privacy rule, thereby reducing costs to the public as explained in the preamble of the DoD-level Privacy rule published on April 11, 2019, at 84 FR 14728-14811.

This rule is not significant under Executive Order (E.O.) 12866, “Regulatory Planning and Review.” Therefore, E.O. 13771, “Reducing Regulation and Controlling Regulatory Costs” does not apply.

List of Subjects in 32 CFR Part 321

Privacy.

PART 321—[REMOVED]

Accordingly, by the authority of 5 U.S.C. 301, 32 CFR part 321 is removed.

Dated: June 12, 2020.
Aaron T. Siegel,
Alternate OSD Federal Register Liaison Officer, Department of Defense.

[FR Doc. 2020-13115 Filed 6-23-20; 8:45 am]

BILLING CODE 5001-06-P